OFFICE OF SCIENCE AND TECHNOLOGY POLICY

Request for Information; Federal Evidence Agenda on LGBTQI+ Equity

AGENCY: Office of Science and Technology Policy (OSTP).

ACTION: Notice of request for information.

SUMMARY: In this notice, the White House Office of Science and Technology Policy (OSTP) requests input from the public to help inform the development of the Federal Evidence Agenda on LGBTQI+ Equity. Executive Order 14075 on Advancing Equality for Lesbian, Gay, Bisexual, Transgender, Queer, and Intersex Individuals (June 15, 2022) required the co-chairs of the Interagency Working Group on Equitable Data to establish a subcommittee on sexual orientation, gender identity, and variations in sex characteristics (SOGI) data. That body, now part of the National Science and Technology Council (NSTC) Subcommittee on Equitable Data, is tasked with the development and release of a Federal Evidence Agenda on LGBTQI+ Equity, which will improve the Federal government's ability to make data-informed policy decisions that advance equity for the LGBTQI+ community.

DATES: Responses must be received by October 3 to be considered.

ADDRESSES: You may submit comments by any of the following methods:

• Email: equitabledata@ostp.eop.gov, include “Federal Evidence Agenda on LGBTQI+ Equity RFI” in the subject line of the message. Email submissions should be machine-readable [PDF, Word] and should not be copy-protected. Submissions received after the deadline may not be taken into consideration.

• Mail: Attn: NSTC Subcommittee on Equitable Data, Office of Science and Technology Policy, Eisenhower Executive Office Building, 1650 Pennsylvania Ave. NW, Washington, DC 20504.

Instructions: Response to this RFI is voluntary. Respondents need not reply to all questions listed. Each individual or institution is requested to submit only one response. Electronic responses must be provided as attachments to an email. It is recommended that attachments do not exceed a file size of 25MB to ensure message delivery. Please identify your answers by responding to a specific question or topic if possible. Respondents may answer as many or as few questions as they wish. Comments of seven pages or fewer (3,500 words) are strongly recommended. We encourage all members of the public who are interested in this initiative to submit their comments. OSTP and the Subcommittee on SOGI Data will consider each comment thoughtfully, whether it contains personal narrative and experience with Federal programs, or more technical legal, research, or scientific content.

OSTP will not respond to individual submissions. This RFI is not accepting applications for financial assistance or financial incentives. Comments submitted in response to this notice are subject to the Freedom of Information Act (FOIA). Responses to this RFI may be posted without change online. OSTP therefore requests that no proprietary information, copyrighted information, or personally identifiable information be submitted in response to this RFI. Please note that the United States Government will not pay for response preparation, or for the use of any information contained in a response.

In accordance with FAR 15-202(3), responses to this notice are not offers and cannot be accepted by the U.S. Government to form a binding contract. Additionally, the U.S. Government will not pay for response preparation or for the use of any information contained in the response.

FOR FURTHER INFORMATION CONTACT: Meghan Maury, Senior Advisor for Data Policy at (202-456-6121) or by email at equitabledata@ostp.eop.gov. Individuals who use telecommunication devices for the deaf and hard of hearing (TDD) may call the Federal Relay Service (FRS) at 1-800-877-8339, 24 hours a day, every day of the year, including holidays.

SUPPLEMENTARY INFORMATION: The Interagency Working Group on Equitable Data was established on January 20, 2021, by Executive Order 13985 on Advancing Racial Equity and Support for Underserved Communities Through the Federal Government. Executive Order 14075 on Advancing Equality for Lesbian, Gay, Bisexual, Transgender, Queer, and Intersex Individuals, requires the co-chairs of the Interagency Working Group on Equitable Data to establish a subcommittee on sexual orientation, gender identity, and variations in sex characteristics (SOGI) data. That body, now part of the NSTC Subcommittee on Equitable Data, is tasked with the development and release of a Federal Evidence Agenda on LGBTQI+ Equity, which will improve the Federal government's ability to make data-informed policy decisions that advance equity for the LGBTQI+ community.

The Federal Evidence Agenda on LGBTQI+ Equity described in Executive Order 14075 must:

i. Describe disparities faced by LGBTQI+ individuals that could be better understood through Federal statistics and data collection;

ii. Identify, in coordination with agency Statistical Officials, Chief Science Officers, Chief Data Officers, and Evaluation Officers, Federal data collections where improved SOGI data collection may be important for advancing the Federal Government's ability to measure disparities facing LGBTQI+ individuals; and

iii. Identify practices for all agencies engaging in SOGI data collection to follow in order to safeguard privacy, security, and civil rights, including with regard to appropriate and robust practices of consent for the collection of this data and restrictions on its use or transfer.

We invite members of the public to share perspectives on how requirements in the Federal Evidence Agenda on LGBTQI+ Equity should be addressed by the Subcommittee on SOGI Data. OSTP seeks responses to one, some, or all of the questions that follow.

Describing Disparities

Section 11 of the Executive Order states that “Advancing equity and full inclusion for LGBTQI+ individuals requires that the Federal Government use evidence and data to measure and address the disparities that LGBTQI+ individuals, families, and households face.” With that charge in mind, OSTP seeks response to the following questions:

1. What disparities faced by LGBTQI+ people are not well-understood through existing Federal statistics and data collection? Are there disparities faced by LGBTQI+ people that Federal statistics and other data collections are currently not well-positioned to help the Government understand?

2. Are there community-based or non-Federal statistics or data collection that could help inform the creation of the Federal Evidence Agenda on LGBTQI+ Equity? Are there disparities that are better understood through community-based research than through Federal statistics and/or other data collection?

3. Community-based research has indicated that LGBTQI+ people experience disparities in a broad range of areas. What factors or criteria should the Subcommittee on SOGI Data consider when reflecting on policy research priorities?

Informing Data Collections

Ultimately, individual agencies decide what data to collect and publish through their forms and surveys, taking into account considerations like informed consent, privacy risk, statistical rigor, intended use of the data, budget, burden to respondents, and more. With that in mind, OSTP seeks response to the following questions about where potentially useful data is lacking:

1. In some instances, there are multiple surveys or data collections that could be used to generate evidence about a particular disparity faced by the LGBTQI+ community. In addition to factors like sample size, timeliness of the data, and geographic specificity of related data publications, what other factors should be considered when determining which survey would best generate the relevant evidence? Are there data collections that would be uniquely valuable in improving the Federal Government's ability to make data-informed decisions that advance equity for the LGBTQI+ community?

2. To protect privacy and maintain statistical rigor, sometimes publicly-released data must combine sexual and gender minority respondents into a single category. While this approach can provide valuable evidence, it can also obscure important details and differences. Please tell us about the usefulness of combined data, and under what circumstances more detailed data may be necessary.

3. Are there any Federal surveys or administrative data collections for which you would recommend the Federal Government should not explore collecting SOGI data due to privacy risk, the creation of barriers to participation in Federal programs, or other reasons? Which collections or type of collections are they, and why would you make this recommendation?

4. How can Federal agencies best communicate with the public about methodological constraints to collecting or publishing SOGI data? Additionally, how can agencies encourage public response to questions about sexual orientation and gender identity in order to improve sample sizes and population coverage?

5. Data collection on vulnerable populations is often incomplete, creating challenges for creating data-informed decisions to advance equity for those populations. How can statistical techniques help identify missing SOGI data, and make statistically rigorous estimates for that missing data? How should qualitative information help agencies analyze what SOGI data might be missing?

Privacy, Security, and Civil Rights

The Executive Order calls on the interagency SOGI data body to identify privacy, confidentiality, and civil rights practices agencies should follow when collecting SOGI data. Though members have expertise in how privacy, confidentiality, and civil rights practices apply to other marginalized groups, OSTP seeks input on privacy, confidentiality, and civil rights considerations that are unique to the LGBTQI+ community and/or are experienced differently by LGBTQI+ people, including in intersection with other marginalized experiences. Accordingly, OSTP seeks response to the following questions:

1. While the confidentiality of data collected by the statistical system is protected by statute, OMB and other agency policies, and experience in protecting the confidentiality of respondents through data governance, privacy-preserving technology, and disclosure limitation practices, a wide range of privacy protections apply to data collected for programmatic purposes, such as applications for Federal programs or benefits, compliance forms, human resources data, and other data used to manage and operate Federal programs. What specific privacy and confidentiality considerations should the Subcommittee on SOGI Data keep in mind when determining promising practices for the collection of this data and restrictions on its use or transfer, especially in the context of government forms and other collections of data for programmatic use?

2. Unique risks may exist when collecting SOGI data in the context of both surveys and administrative forms. Please tell us about specific risks Federal agencies should think about when considering whether to collect these data in surveys or administrative contexts.

3. Once SOGI data have been collected for administrative or statistical purposes, are there considerations that Federal agencies should be aware of concerning retention of these data? Please tell us how privacy or confidentiality protections could mitigate or change these concerns.

4. Where programmatic data is used to enforce civil rights protections, such as in employment, credit applications, or education settings, what considerations should the Subcommittee on SOGI Data keep in mind when determining promising practices for the collection of this data and restrictions on its use or transfer?

Dated: August 19, 2022.
Stacy Murphy,
Operations Manager.

[FR Doc. 2022-18219 Filed 8-23-22; 8:45 am]

BILLING CODE 3270-F2-P